DEPARTMENT OF HOUSING AND URBAN DEVELOPMENT

[Docket No. FR-4740-N-03]

Notice of Proposed Information Collection: Comment Request; Schedule of Subscribers and Ginnie Mae Guaranty Agreement

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comment Due Date: July 22, 2002.

ADDRESSES: Interested persons are invited to submit comments regarding this proposal. Comments should refer to the proposal by name and/or OMB Control Number and should be sent to: Sonya Suarez, Office of Program Operations, Department of Housing & Urban Development, 451 7th Street, SW., Room 6206, Washington, DC 20410.

FOR FURTHER INFORMATION CONTACT: Sonya Suarez, Ginnie Mae, (202) 708-2884 (this is not a toll-free number) for copies of the proposed forms and other available documents.

SUPPLEMENTARY INFORMATION: The Department will submit the proposed information collection to OMB for review, as required by the Paperwork Reduction Act of 1995 (44 U.S.C. Chapter 35, as amended).

The Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Schedule of Subscribers and Ginnie Mae Guaranty Agreement.

OMB Control Number, if applicable: 2503-0009.

Description of the Need for the Information and Proposed Use

This form is prepared and submitted by the issuer to Ginnie Mae's agent, JPMorgan Chase Bank. This form must be used by the issuer to submit pool or loan packages. Each time the issuer issues a new security, it agrees that the applicable Guaranty Agreement is in effect on the issue date of the securities and that it will govern all of the issuer's outstanding pool and loan packages, pooled mortgages, and securities whether created under the Ginnie Mae I MBS Program or the Ginnie Mae II MBS Program. The pool will vary as to the amount of each security, securities holders, and the number of securities for each holder. The data provided on this form is the basis for the preparation of the securities issued under each Ginnie Mae MBS pool. Upon receipt of the form, JPMorgan Chase Bank reviews the information submitted in conjunction with other documentation required for the issuance of MBS securities. The approval of this form enables the actual preparation of the securities to be issued.

Agency form numbers, if applicable: Form HUD 11705.

Members of affected public: For-profit business (mortgage companies, thrifts, savings & loans, etc.).

Estimation of the total number of hours needed to prepare the information collection, including number of respondents, frequency of response, and hours of response:

Number of respondents: 297 (end of 2001).

Frequency of responses: 106 (per year).

Total annual responses: 31,482.

Hours per response: .17 (10 minutes).

Total burden hours: 5,352.

Status of the proposed information collection: Extension of a currently approved collection.

Authority: Section 3506 of the Paperwork Reduction Act of 1995, 44 U.S.C. Chapter 35, as amended.

Dated: May 13, 2002.
George S. Anderson,
Executive Vice President, Ginnie Mae.

[FR Doc. 02-12717 Filed 5-20-02; 8:45 am]

BILLING CODE 4210-66-M